DEPARTMENT OF HEALTH AND HUMAN SERVICES

Centers for Disease Control and Prevention

The National Center for Chronic Disease Prevention and Health Promotion

In accordance with section 10(a)(2) of the Federal Advisory Committee Act (Pub. L. 92-463), the Centers for Disease Control and Prevention (CDC) announces the following committee meeting.

Name: Interagency Committee on Smoking and Health: Meeting.

Time and Date: 9 a.m.-4 p.m., March 9, 2004.

Place: Howard University, Armour J. Blackburn University

Center, West Ballroom 6th and Howard Place, NW., Washington, DC 20059. Telephone: (202) 806-6100.

Status: Open to the public, limited only by the space available. Those who wish to attend are encouraged to register with the contact person listed below. If you will require a sign language interpretator, or have other special needs, please notify the contact person by 4:30 p.m., no later than March 5, 2004.

Purpose: The Interagency Committee on Smoking and Health advises the Secretary, Department of Health and Human Services, and the Assistant Secretary for Health in the (a) coordination of all research and education programs and other activities within the Department and with other Federal, State, local and private agencies and (b) establishment and maintenance of liaisons with appropriate private entities, Federal agencies, and State and local public health agencies with respect to smoking and health activities.

Matters to be Discussed: The agenda will focus on Addressing Tobacco-related Disparities Among Population Groups/Youth with a focus on Communities of Color.

Contact Person for More Information: Substantive program information as well as summaries of the meeting and roster of committee members may be obtained from the internet at http//www.cdc.gov/tobacco in mid-April or from Ms. Monica L. Swann, Program Specialist, Office on Smoking and Health, 200 Independence Avenue, SW., Suite 317B, Washington, DC 20201, telephone: (202) 205-8500.

Agenda items are subject to change as priorities dictate.

The Director, Management Analysis and Services Office, has been delegated the authority to sign Federal Register notices pertaining to announcements of meetings and other committee management activities, for both CDC and the Agency for Toxic Substances and Disease Registry.

Dated: February 5, 2004.
Alvin Hall,
Director, Management Analysis and Service Office, Centers for Disease Control and Prevention.

[FR Doc. 04-2971 Filed 2-10-04; 8:45 am]

BILLING CODE 4163-18-P